DEPARTMENT OF DEFENSE

Department of the Air Force

[Docket ID: USAF-2013-0001]

Privacy Act of 1974; System of Records

AGENCY: Department of the Air Force, DoD.

ACTION: Notice to alter a System of Records.

SUMMARY: The Department of the Air Force proposes to alter a system of records notice in its existing inventory of records systems subject to the Privacy Act of 1974 (5 U.S.C. 552a), as amended.

DATES: This proposed action will be effective on February 28, 2013 unless comments are received which result in a contrary determination. Comments will be accepted on or before February 27, 2013.

ADDRESSES: You may submit comments, identified by docket number and title, by any of the following methods:

* Federal Rulemaking Portal: http://www.regulations.gov. Follow the instructions for submitting comments.

* Mail: Federal Docket Management System Office, 4800 Mark Center Drive East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Mr. Charles J. Shedrick, Department of the Air Force Privacy Office, Air Force Privacy Act Office, Office of Warfighting Integration and Chief Information Officer, ATTN: SAF/CIO A6, 1800 Air Force Pentagon, Washington, DC 20330-1800, or by phone at (202) 404-6575.

SUPPLEMENTARY INFORMATION: The Department of the Air Force's notices for systems of records subject to the Privacy Act of 1974 (5 U.S.C. 552a), as amended, have been published in the Federal Register and are available from the address in FOR FURTHER INFORMATION CONTACT.

The proposed systems reports, as required by 5 U.S.C. 552a(r) of the Privacy Act, were submitted on December 27, 2012 to the House Committee on Oversight and Government Reform, the Senate Committee on Homeland Security and Governmental Affairs, and the Office of Management and Budget (OMB) pursuant to paragraph 4c of Appendix I to OMB Circular No. A-130, “Federal Agency Responsibilities for Maintaining Records About Individuals,” dated February 8, 1996, (February 20, 1996, 61 FR 6427).

Dated: January 23, 2013.
Aaron Siegel,
Alternate OSD Federal Register Liaison Officer, Department of Defense.

F010 AFSPC A

System name:

Telecommunications Notification System (July 6, 2010, 75 FR 38792).

Changes:

* * * * *

System location:

Add after first paragraph “Air National Guard Readiness Center, 3500 Fetchet Avenue, Joint Base Andrews, MD 20762-5000.”

Categories of individuals covered by the system:

Delete entry and replace with “Air Force Active duty, Reserve, Air National Guard, government civilians and contractors.”

* * * * *

Retention and disposal:

Delete entry and replace with “The paper records produced by this system will be reviewed to determine alert notification and acknowledgement times. The paper records produced will be shredded immediately after use and will not be retained longer than 1 month. Electronic records are destroyed when no longer required.”

* * * * *

System manager(s) and address:

Add after first paragraph “Program Manager, Air National Guard, Enterprise Programs Branch, 3501 Fetchet Avenue, Suite 100, Joint Base Andrews, MD 20762-5000.

Air Force installations that have access to this system official mailing addresses are published as an appendix to the Air Force's compilation of systems of records notices.”

Notification procedure:

Delete entry and replace with “Individuals seeking to determine whether information about themselves is contained in this system of records should address written inquiries to the Command Post Superintendent, 30 Space Wing Command, Post 867 Washington Ave., Suite 205, Vandenberg Air Force Base, CA 93437-6117.

Individuals at the 45th Space Wing seeking to determine whether information about themselves is contained in this system of records should address written inquiries to the 45 Space Wing Command Post, Patrick Air Force Base, FL 32925-3002.

Individuals with the Air National Guard seeking to determine whether information about themselves is contained in this system of records should address written inquiries to the Air National Guard Readiness Center, 3500 Fetchet Avenue, Joint Base Andrews, MD 20762-5000.

Individuals seeking to determine whether information about themselves is contained in this system of records at other Air Force installations should address written inquiries to the Command Post Superintendent. Official mailing addresses are published as an appendix to the Air Force's compilation of systems of records notices.

For verification purposes, individual should provide their full name, SSN, any details which may assist in locating records, and their signature.

In addition, the requester must provide a notarized statement or an unsworn declaration made in accordance with 28 U.S.C. 1746, in the following format:

If executed outside the United States: `I declare (or certify, verify, or state) under penalty of perjury under the laws of the United States of America that the foregoing is true and correct. Executed on (date). (Signature).'

If executed within the United States, its territories, possessions, or commonwealths: `I declare (or certify, verify, or state) under penalty of perjury that the foregoing is true and correct. Executed on (date). (Signature).' ”

Records access procedures:

Delete entry and replace with “Individuals seeking access to information about themselves should address written inquiries to Command Post Superintendent, 30 Space Wing Command Post, 867 Washington Ave., Suite 205, Vandenberg Air Force Base, CA 93437-6117.

Individuals at the 45th Space Wing seeking access to information about themselves should address written inquiries to 45th Space Wing Command Post, Patrick Air Force Base, FL 32925-3002.

Individuals with the Air National Guard seeking to determine whether information about themselves is contained in this system of records should address written inquiries to the Air National Guard Readiness Center, 3500 Fetchet Avenue, Joint Base Andrews, MD 20762-5000.

Individuals seeking to determine whether information about themselves is contained in this system of records at other Air Force installations should address written inquiries to the Command Post Superintendent. Official mailing addresses are published as an appendix to the Air Force's compilation of systems of records notices.

For verification purposes, individual should provide their full name, SSN, any details which may assist in locating records, and their signature.

In addition, the requester must provide a notarized statement or an unsworn declaration made in accordance with 28 U.S.C. 1746, in the following format:

If executed outside the United States: `I declare (or certify, verify, or state) under penalty of perjury under the laws of the United States of America that the foregoing is true and correct. Executed on (date). (Signature).'

If executed within the United States, its territories, possessions, or commonwealths: `I declare (or certify, verify, or state) under penalty of perjury that the foregoing is true and correct. Executed on (date). (Signature).' ”

* * * * *

[FR Doc. 2013-01681 Filed 1-25-13; 8:45 am]

BILLING CODE 5001-06-P